DEPARTMENT OF DEFENSE

Office of the Secretary

[Docket ID: DOD-2019-OS-0064]

Privacy Act of 1974; System of Records

AGENCY: Defense Logistics Agency, DoD.

ACTION: Notice of a modified system of records.

SUMMARY: The Defense Logistics Agency (DLA) is proposing to modify the system of records notice, “Defense Agencies Initiative (DAI) Civilian Time and Labor Records,” S890.11. The DAI is the target financial management system for the Department of Defense (DoD) and is required to eliminate or replace DoD financial management systems that are duplicative, redundant, or fail to comply with the standards set forth in the Federal Financial Management Improvement Act, and other relevant Federal and DoD policies. The modifications to this System of Records Notice (SORN) are necessary since the DAI system has undergone several enhancements necessitating changes to several sections of the SORN and to ensure the SORN meets OMB Circular A-108 requirements. As a result, this SORN proposes changes to the system name, system location, system manager(s) and address, authorities, purpose, categories of individuals, categories of records, record source categtories, routine uses, storage of records, retrieval of records, retention and disposal of records, record access procedures, and notification procedures.

DATES: Comments will be accepted on or before July 3, 2019. This proposed action will be effective the date following the end of the comment period unless comments are received which result in a contrary determination.

ADDRESSES: You may submit comments, identified by docket number and title, by any of the following methods:

* Federal eRulemaking Portal: http://www.regulations.gov.

Follow the instructions for submitting comments.

* Mail: Department of Defense, Office of the Chief Management Officer, Directorate for Oversight and Compliance, 4800 Mark Center Drive, Mailbox #24, Suite 08D09, Alexandria, VA 22350-1700.

Instructions: All submissions received must include the agency name and docket number for this Federal Register document. The general policy for comments and other submissions from members of the public is to make these submissions available for public viewing on the internet at http://www.regulations.gov as they are received without change, including any personal identifiers or contact information.

FOR FURTHER INFORMATION CONTACT: Lewis W. Oleinick, Chief Privacy Officer, Defense Logistics Agency, ATTN: J-67C, Room 1567, 8725 John J. Kingman Road, Fort Belvoir, VA 22060, or by phone at (571) 767-6194.

SUPPLEMENTARY INFORMATION: The DAI system transforms the budget, finance, and accounting operations of the defense agencies in order to obtain accurate and reliable financial information necessary to support financial accountability and promote effective and efficient management decision making. The National Defense Authorization Act for Fiscal Year 2008, Public Law 110-181, Sec. 1005, required, in relevant part, the DAI program to include: Procure to Pay, including payments for tuition reimbursement when an employee pays out of pocket for a class; Order to Fulfill, including tracking overpayment to an employee from the Defense Travel System; and, Time and Attendance and Employee Entitlement. Employee Entitlement includes such items as payroll, awards, bonuses, permanent change of station (PCS), temporary duty (TDY), and miscellaneous reimbursements.

The DLA SORNs subject to the Privacy Act of 1974 (5 U.S.C. 552a), as amended, have been published in the Federal Register and are available from the address in the FOR FURTHER INFORMATION CONTACT section or from the Defense Privacy, Civil Liberties, and Transparency Division website: http://dpcld.defense.gov.

The proposed system report, as required by 5 U.S.C. 552a(r) of the Privacy Act of 1974, as amended, was submitted on April 10, 2019, to the House Committee on Oversight and Reform, the Senate Committee on Governmental Affairs, and the Office of Management and Budget (OMB) pursuant to Section 6 of OMB Circular No. A-108, “Federal Agency Responsibilities for Review, Reporting, and Publication under the Privacy Act,” revised December 23, 2016 (December 23, 2016, 81 FR 94424).

Dated: May 29, 2019.
Aaron T. Siegel,
Alternate OSD Federal Register Liaison Officer, Department of Defense.

SYSTEM NAME AND NUMBER

Defense Agencies Initiative (DAI), S890.11.

SECURITY CLASSIFICATION

Unclassified.

SYSTEM LOCATION:

Defense Logistics Agency (DLA), 8725 John J. Kingman Rd., Fort Belvoir, VA 22060-6221.

Defense Information Systems Agency, Defense Enterprise Computing Center Ogden, 7879 Wardleigh Road, Hill AFB, UT 84056-5997.

SYSTEM MANAGER(S):

Program Manager, Defense Agencies Initiative (DAI) Program Management Office, 5611 Columbia Pike, 3rd Floor, Falls Church, VA 22041-6221, or by email at DAI@dla.mil.

AUTHORITY FOR MAINTENANCE OF THE SYSTEM:

5 U.S.C. Chapter 61, Hours of Work; 5 U.S.C. Chapter 53, Pay Rates and Systems; 5 U.S.C. Chapter 57, Travel, Transportation, and Subsistence; 5 U.S.C. Chapter 63, Leave; 10 U.S.C. 136, Under Secretary of Defense for Personnel and Readiness; 31 U.S.C. Chapter 35, Accounting and Collection; 10 U.S.C. 2222 note, Financial Management Transformation Initiative for the Defense Agencies; 31 U.S.C. 3512, Executive Agency Accounting and Other Financial Management Reports and Plans, as amended; The National Defense Authorization Act for Fiscal Year 2008, Public Law 110-181, Sec. 1005; and E.O. 9397 (SSN), as amended.

PURPOSE(S) OF THE SYSTEM:

Records are used to make payments for tuition reimbursement when an employee pays out of pocket for a class; to track overpayment to an employee from the Defense Travel System; to track payroll, awards, bonuses, permanent change of station (PCS) payments, temporary duty (TDY) payments, and miscellaneous payment reimbursements; to prepare time and attendance records; to record employee pay rates and status, including overtime, the use of leave, and work absences; to track workload, project activity for analysis and reporting purposes; for statistical reporting on leave and overtime use/usage patterns, and to answer employee queries on leave, overtime, and pay.

Information from this system of records is provided to the Defense Civilian Payroll System (DCPS) for issuing payroll.

CATEGORIES OF INDIVIDUALS COVERED BY THE SYSTEM:

DoD civilian employees receiving accounting and financial management support from DAI under Memoranda of Agreement or Memoranda of Understanding.

CATEGORIES OF RECORDS IN THE SYSTEM:

Records maintained include individual's name, Social Security Number (SSN), DoD Identification Number (DoD ID), mailing address, citizenship, pay, gender, employee's status, position, accounting codes, organization and office location, email address, pay rate, leave balances; work and shift schedule, project and workload records, regular and overtime work hours, leave hours, time and attendance records (timesheet), and information on telework, temporary duty and special assignments; permanent change of station (PCS), temporary duty (TDY), and travel voucher information such as travel authorization number, moving costs, apartment rent, hotels, rental car fees, and airfare; for miscellaneous pay, categories of payment and amount; for over or under payment, payment amount made by DFAS; for tuition reimbursement, educational institution, name of course, cost of tuition and fees, dates of attendance.

RECORD SOURCE CATEGORIES:

The individual, supervisors, timekeepers, leave slips and automated payroll systems, such as, the Defense Civilian Payroll System, and the Defense Travel System.

ROUTINE USES OF RECORDS MAINTAINED IN THE SYSTEM, INCLUDING CATEGORIES OF USERS AND THE PURPOSES OF SUCH USES:

In addition to those disclosures generally permitted under 5 U.S.C. 552a(b) of the Privacy Act of 1974, as amended, records contained herein may specifically be disclosed outside the DoD as a routine use pursuant to 5 U.S.C. 552a(b)(3) as follows:

a. To the Office of Personnel Management (OPM) for the purpose of addressing civilian pay and leave, benefits, retirement deduction, and any other information necessary for the OPM to carry out its legally authorized Government-wide personnel management functions and studies.

b. To contractors performing or working on a contract for the Federal Government when necessary to accomplish an agency function related to this system of records.

c. To unions recognized as exclusive bargaining representatives under the Civil Service Reform Act of 1978, 5 U.S.C. 7111 and 7114, the Merit Systems Protection Board, arbitrators, the Federal Labor Relations Authority, and other parties responsible for the administration of the Federal labor-management program for the purpose of processing any corrective actions, or grievances, or conducting administrative hearings or appeals.

d. To the Merit Systems Protection Board and the Office of the Special Counsel for the purpose of litigation, including administrative proceedings, appeals, special studies of the civil service and other merit systems; review of OPM or component rules and regulations; investigation of alleged or possible prohibited personnel practices, including administrative proceedings involving any individual subject of a DoD investigation.

e. To the appropriate Federal, state, local, territorial, tribal, foreign, or international law enforcement authority or other appropriate entity where a record, either alone or in conjunction with other information, indicates a violation or potential violation of law, whether criminal, civil, or regulatory in nature.

f. To any component of the Department of Justice for the purpose of representing the DoD, or its components, officers, employees, or members in pending or potential litigation to which the record is pertinent.

g. In an appropriate proceeding before a court, grand jury, or administrative or adjudicative body or official, when the DoD or other agency representing the DoD determines the records are relevant and necessary to the proceeding; or in an appropriate proceeding before an administrative or adjudicative body when the adjudicator determines the records to be relevant to the proceeding.

h. To the National Archives and Records Administration for the purpose of records management inspections conducted under the authority of 44 U.S.C. 2904 and 2906.

i. To a Member of Congress or staff acting upon the Member's behalf when the Member or staff requests the information on behalf of, and at the request of, the individual who is the subject of the record.

j. To appropriate agencies, entities, and persons when (1) the DoD suspects or confirms a breach of the system of records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

k. To another Federal agency or Federal entity when the DoD determines information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

POLICIES AND PRACTICES FOR STORAGE OF RECORDS:

Electronic storage media.

POLICIES AND PRACTICES FOR RETRIEVAL OF RECORDS:

Records are primarily retrieved by employee's name, SSN or DoD ID number.

POLICIES AND PRACTICES FOR RETENTION AND DISPOSAL OF RECORDS:

Data from Leave Application Files (signed OPM-71 [or equivalent] and online leave requests) are destroyed after Government Accountability Office (GAO) audit or when 3 years old, whichever is sooner.

Time and Labor Source Records and Input Records are destroyed after GAO audit or when 6 years old, whichever is sooner.

Leave records are destroyed when 3 years old. Payroll system reports and data used for personnel management purposes are destroyed when 2 years old.

Project and Workload Records are destroyed after 6 years, 3 months, or when no longer needed. Travel (including TDY and PCS), Tuition Reimbursement, and Miscellaneous Payment. Transaction Data, Financial, and Accounting Records are destroyed after 6 years, 3 months, or when no longer needed for audit purposes.

ADMINISTRATIVE, TECHNICAL, AND PHYSICAL SAFEGUARDS:

Records are maintained in a controlled facility. Physical entry is restricted by the use of locks, guards, and is accessible only to authorized personnel. Access to computerized data is restricted by Common Access Cards. Access to records is limited to person(s) responsible for servicing the records in the performance of their official duties and who are properly screened and cleared for need-to-know. All individuals granted access to this system of records are required to have taken Information Assurance and Privacy Act training.

RECORD ACCESS PROCEDURES:

Individuals seeking access to information about themselves contained in this system of records should address written requests to the DLA FOIA/Privacy Act Office, Headquarters, Defense Logistics Agency, ATTN: J67CC, 8725 John J. Kingman Road, Room 1567, Fort Belvoir, VA 22060-6221. Signed, written requests should contain the full name, identifier (i.e., SSN or DoD ID), current address and telephone number of the individual. In addition, the requester must provide either a notarized statement or a declaration made in accordance with 28 U.S.C. 1746, using the following format: If executed outside the United States: “I declare (or certify, verify, or state) under penalty of perjury under the laws of the United States of America that the foregoing is true and correct. Executed on (date). (Signature).

If executed within the United States, its territories, possessions, or commonwealths: “I declare (or certify, verify, or state) under penalty of perjury under the laws of the United States of America that the foregoing is true and correct. Executed on (date). (Signature).

CONTESTING RECORD PROCEDURES:

The DoD rules for accessing records, contesting contents, and appealing initial agency determinations are contained in 32 CFR part 310, or may be obtained from the DLA FOIA/Privacy Act Office, Headquarters, Defense Logistics Agency, ATTN: J67CC, 8725 John J. Kingman Road, Room 1567, Fort Belvoir, VA 22060-6221.

NOTIFICATION PROCEDURES:

Individuals seeking to determine whether information about themselves is contained in this system of records should address written inquiries to the DLA FOIA/Privacy Act Office, Headquarters, Defense Logistics Agency, ATTN: J67CC, 8725 John J. Kingman Road, Rm. 1567, Fort Belvoir, VA 22060-6221.

The inquiry should contain the record subject's full name, DoD ID Number and return mailing address. Signed, written requests should contain the individual's full name, identifier (i.e., SSN or DoD ID), current address and telephone number of the individual.

In addition, the requester must provide either a notarized statement or an unsworn declaration made in accordance with 28 U.S.C. 1746 in the following format:

If executed outside the United States: “I declare (or certify, verify, or state) under penalty of perjury under the laws of the United States of America that the foregoing is true and correct. Executed on (date). (Signature).

If executed within the United States, its territories, possessions, or commonwealths: “I declare (or certify, verify, or state) under penalty of perjury that the foregoing is true and correct. Executed on (date). (Signature).

EXEMPTIONS PROMULGATED FOR THE SYSTEM:

None.

HISTORY:

November 4, 2013, 78 FR 65976.

[FR Doc. 2019-11470 Filed 5-31-19; 8:45 am]

BILLING CODE 5001-06-P